DEPARTMENT OF JUSTICE

Notice of Lodging of Proposed Consent Decree Under The Comprehensive Environmental Response, Compensation, and Liability Act

On December 17, 2020, the Department of Justice lodged a proposed Consent Decree with the United States District Court for the Southern District of Alabama in the lawsuit entitled United States v. Olin Corporation and BASF Corporation, Civil Action No. 1:20-cv-00602. In the filed Complaint, the United States, on behalf of the U.S. Environmental Protection Agency (“EPA”), alleges that the Defendants are liable under the Comprehensive Environmental Response, Compensation, and Liability Act, 42 U.S.C. 9606 and 9607(a), for the response costs EPA incurred to respond to the releases and/or threatened releases of hazardous substances into the environment from a parcel of property where Operable Unit 2 of the Olin McIntosh Superfund Site is located at 1638 Industrial Road in McIntosh, Washington County, Alabama that the Defendant Olin Corporation owned and operated. The Consent Decree requires the Defendants to perform Remedial Design and Remedial Action (“RD/RA”) for Operable Unit 2, pay past response costs for Operable Unit 2 and pay future costs related to the work. Estimates for the Remedial Action are between $13,400,000 and $21,500,000.

The publication of this notice opens a period for public comment on the Consent Decree. Comments should be addressed to the Assistant Attorney General, Environment and Natural Resources Division, and should refer to United States v. Olin Corporation and BASF Corporation, D.J. Ref. No. 90-11-3-11158. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.50 (25 cents per page reproduction cost), payable to the United States Treasury.

Lori Jonas,
Assistant Section Chief, Environmental Enforcement Section, Environment & Natural Resources Division.

[FR Doc. 2020-28410 Filed 12-22-20; 8:45 am]

BILLING CODE 4410-15-P